DEPARTMENT OF TRANSPORTATION

National Highway Traffic Safety Administration

49 CFR Part 571

[Docket No. NHTSA-2011-0052]

Federal Motor Vehicle Safety Standards; Lamps, Reflective Devices, and Associated Equipment

AGENCY: National Highway Traffic Safety Administration (NHTSA), Department of Transportation (DOT).

ACTION: Granting petition for rulemaking.

SUMMARY: This notice grants the petition for rulemaking submitted by the Motorcycle Industry Council (MIC) requesting that the agency amend the license plate holder requirements of Federal Motor Vehicle Safety Standard (FMVSS) No. 108 to allow motorcycles to mount license plates at an upward angle of up to 30 degrees.¹ Based on the information received in MIC's petition and the petitions for reconsideration of the December 4, 2007 final rule reorganizing FMVSS No. 108,² the agency believes that MIC's petition merits further consideration through the rulemaking process.

¹ Motorcycle Industry Council Petition for Rulemaking, March 14, 2005 (Docket No. NHTSA-2005-20286-0009)

² 72 FR 68234 (December 4, 2007).

The National Highway Traffic Safety Administration plans to initiate the rulemaking process on this issue with a notice of proposed rulemaking later this year. The determination of whether to issue a rule will be made in the course of the rulemaking proceeding, in accordance with statutory criteria.

FOR FURTHER INFORMATION CONTACT: For technical issues: Markus Price, Office of Crash Avoidance Standards (NVS-121), NHTSA, 1200 New Jersey Avenue, SE., West Building, Washington, DC 20590 (Telephone: (202) 366-0098) (Fax: (202) 366-7002).

For legal issues: Jesse Chang, Office of the Chief Counsel (NCC-112), NHTSA, 1200 New Jersey Avenue, SE., West Building, Washington, DC 20590 (Telephone: (202) 366-2992) (Fax: (202) 366-3820).

SUPPLEMENTARY INFORMATION:

Background

On March 14, 2005, MIC submitted to the agency a petition for rulemaking requesting that the agency include an additional subpart to FMVSS No. 108. Specifically, MIC requested the addition of a subpart to be designated as S5.1.1.30, which would read as follows:

“S5.1.1.30 On a motorcycle where the upper edge of the license plate is not more than 1.2 m (47.25 in.) from the ground, the plate bearing the license numbers shall face between 30 degrees upward and 15 degrees downward from the vertical plane.”

MIC submitted this petition for rulemaking with the understanding that the current FMVSS No. 108 requires license plates to be mounted at ± 15 degrees of perpendicular to the plane on which the vehicle stands. In their petition, MIC took note that “although the lighting standard doesn't directly speak to license plate mounting, the requirement at issue is contained in SAE J587 October 1981, which is incorporated into FMVSS No. 108 in Table III for license plate lamps.” Petitioner notes that the requirements of the October 1981 Standard J587 are different from the European Community (ECE) regulations. By including the proposed subpart, petitioner hopes to harmonize the current motorcycle license plate requirements with the requirements in the ECE regulations.

Petitioner stated that this harmonization would not adversely affect safety or law enforcement efforts but would serve to reduce unnecessary design and manufacturing complexities for its member companies. Further, petitioner believes that by allowing a 30 degree upward angle, the manufacturers will be afforded greater flexibility in design without any detriment to real world reflective illumination of the license plates. As additional support for their request, MIC mentions that SAE Standard J587 was updated in 1997 to also allow for the 30 degree upward angle permitted by the ECE regulations.

In addition to the MIC petition for rulemaking of March 14, 2005, the agency has received petitions for reconsideration of the December 4, 2007 final rule that reorganized FMVSS No. 108. These petitions for reconsideration were also concerned with license plate holders and the mounting requirements. In that final rule, the agency included the license plate mounting requirements of SAE Standard J587 (October 1981) directly into the regulatory text. Petitioners objected on the grounds that the license plate mounting requirements of the 1981 SAE standard were never incorporated into FMVSS No. 108 and thus should not be included in an administrative rewrite of FMVSS No. 108 where the agency has stated no intent to substantively change the standard. A more detailed discussion of these petitions is available in today's Federal Register where the agency has issued a notice denying, in part, the petitions for reconsideration of the December 4, 2007 final rule.

Conclusion

Having received this petition for rulemaking and the aforementioned petitions for reconsideration of the December 4, 2007 final rule reorganizing FMVSS No. 108, the agency has decided that MIC's petition merits further consideration through the rulemaking process and hereby grants its petition for rulemaking. The agency plans to initiate the rulemaking process later this year through the publication of a notice of proposed rulemaking. This agency also announces in a separate notice published in today's Federal Register that it is denying the aforementioned petitions for reconsideration as the agency has decided to resolve this issue through rulemaking. However, due to the special circumstances and confusion surrounding the license plate mounting requirements among the relevant stakeholders, the agency announces through this notice that it will not enforce the 15 degree license plate holder mounting requirement during the pendency of rulemaking on the issue of that requirement.

The granting of the petition from MIC, however, does not indicate that a final rule will be issued as requested by MIC. The determination of whether to issue a rule and the content of the rule is made after the study of the requested action and the various alternatives in the course of the rulemaking proceeding, in accordance with statutory criteria.

Issued on: April 21, 2011.
Christopher J. Bonanti,
Associate Administrator for Rulemaking.

[FR Doc. 2011-10025 Filed 4-25-11; 8:45 am]

BILLING CODE 4910-59-P